NATIONAL CREDIT UNION ADMINISTRATION

Agency Information Collection Activities: Extension of a Previously Approved Collection; for Prompt Corrective Action; Comment Request

AGENCY: National Credit Union Administration (NCUA).

ACTION: Request for comment.

SUMMARY: The NCUA intends to submit the following proposed collection of information to the Office of Management and Budget (OMB) for review and clearance under the Paperwork Reduction Act of 1995 (Pub. L. 104-13, 44 U.S.C. Chapter 35). This information collection notice is published to obtain comments from the public. This is related to NCUA's Prompt Corrective Action (PCA) regulation. NCUA uses the information provided to ensure the purpose of PCA is being carried out and that credit unions build adequate levels of net worth within a reasonable time.

DATES: Comments will be accepted until March 23, 2015.

ADDRESSES: Interested persons are invited to submit written comments on the information collection to Jessica Khouri, National Credit Union Administration, 1775 Duke Street, Alexandria, Virginia 22314-3428, Fax No. 703-837-2861, Email: OCIOPRA@ncua.gov

FOR FURTHER INFORMATION CONTACT: Requests for additional information, a copy of the information collection request, or a copy of submitted comments should be directed to Jessica Khouri at the National Credit Union Administration, 1775 Duke Street, Alexandria, VA 22314-3428, or at OCIOPRA@ncua.gov.

SUPPLEMENTARY INFORMATION:

I. Abstract and Request for Comments

NCUA is requesting extension of the previously approved collection of information related to NCUA's regulation on PCA, 12 CFR part 702 (Part 702), which provides the requirements for PCA for federally insured credit unions (FICUs). Section 216 of the Federal Credit Union Act (12 U.S.C. 1790d) mandates the requirements of PCA. Section 216 requires the NCUA Board to (1) adopt, by regulation, a system of PCA to restore the net worth of inadequately capitalized FICUs; and (2) develop an alternative system of PCA for new credit unions that carries out the purpose of PCA while allowing reasonable time to build net worth to an adequate level. Part 702 implements the statutory mandate by establishing a system of PCA to restore the net worth of inadequately capitalized FICUs. To achieve this, various information collections are required on occasion as the circumstances require.

NCUA requests that you send your comments on this information collection to the location listed in the ADDRESSES section. Your comments should address: (a) The necessity of the information collection for the proper performance of NCUA, including whether the information will have practical utility; (b) the accuracy of our estimate of the burden (hours and cost) of the collection of information, including the validity of the methodology and assumptions used; (c) ways we could enhance the quality, utility, and clarity of the information to be collected; and (d) ways we could minimize the burden of the collection of the information on the respondents such as through the use of automated collection techniques or other forms of information technology. It is NCUA's policy to make all comments available to the public for review.

II. Data

Title: Prompt Corrective Action, 12 CFR part 702.

OMB Number: 3133-0154.

Form Number: None.

Type of Review: Extension of a previously approved collection.

Description: Part 702 provides for a system of PCA. To comply with Part 702, a FICU may be subject to reporting requirements based on its net worth classification. Additionally, the rule allows FICUs to request waivers from certain requirements to which they may otherwise be subject. NCUA uses the information provided to ensure the purpose of PCA is being carried out and that FICUs build adequate levels of net worth within a reasonable time.

Respondents: Federally insured credit unions.

Estimated No. of Respondents: 642 FICUs.

Estimated Burden Hours per Response: Varies by collection.

Frequency of Response: On occasion.

Estimated Total Annual Burden Hours: 3,847 hours.

Estimated Total Annual Cost: $122,680.33.

By the National Credit Union Administration Board on January 14, 2015.
Gerard Poliquin,
Secretary of the Board.

[FR Doc. 2015-00972 Filed 1-21-15; 8:45 am]

BILLING CODE 7535-01-P